DEPARTMENT OF ENERGY

Federal Energy Regulatory Commission

[Docket No. CP22-138-000]

Northern Natural Gas Company; Notice of Availability of the Draft Environmental Impact Statement for the Proposed Northern Lights 2023 Expansion Project

The staff of the Federal Energy Regulatory Commission (FERC or Commission) has prepared a draft Environmental Impact Statement (EIS) for the Northern Lights 2023 Expansion Project (Project), proposed by Northern Natural Gas Company (Northern) in the above-referenced docket. Northern requests a Certificate of Public Convenience and Necessity and authorization to abandon, construct, operate, and maintain certain natural gas transmission pipeline facilities in Freeborn, Washington, Scott, Sherburne, and Stearns Counties, Minnesota and Monroe County, Wisconsin. The Project purpose is to provide incremental winter firm service of 44,222 dekatherms per day (Dth/d) to Northern's residential, commercial, and industrial customer market and 6,667 Dth/d of additional firm service that will allow a shipper enhanced reliability and flexibility in natural gas transportation capacity for electric generation.

The draft EIS assesses the potential environmental effects of the construction and operation of the Project in accordance with the requirements of the National Environmental Policy Act (NEPA). FERC staff concludes that approval of the proposed Project, with the mitigation measures recommended in the EIS, would result in some adverse environmental impacts; however, with the exception of potential impacts on climate change, we conclude that impacts would be reduced to less than significant levels. Regarding climate change impacts, the EIS is not characterizing the Project's greenhouse gas (GHG) emissions as significant or not significant because the Commission is conducting a generic proceeding to determine whether and how the Commission will conduct significance determinations going forward.¹

¹ Consideration of Greenhouse Gas Emissions in Natural Gas Infrastructure Project Reviews, 178 FERC ¶ 61,108 (2022); 178 FERC ¶ 61,197 (2022).

Special construction methods in proximity to residences are shown on Northern's Site-Specific Residential Construction Plans (see appendix N of the draft EIS), which we have reviewed and found acceptable; however, we encourage affected landowners to review these site-specific drawings and provide comments, as warranted. The draft EIS addresses the potential environmental effects of the construction, abandonment, and operation of the following Project facilities:

• Ventura North E-line Extension (Ventura Extension)—2.8 miles of 36-inch-diameter pipeline extension of the Ventura North E-Line in Freeborn County, Minnesota;

• Elk River 3rd Branch Line Loop ² (Elk River Loop)—1.1 miles of 30-inch-diameter pipeline loop in Washington County, Minnesota;

² A loop is a segment of pipeline parallel to a mainline that connects to it at both ends and allows more gas to flow through that segment.

• Willmar D Branch Line Extension (Willmar Extension)—1.1 miles of 24-inch-diameter pipeline extension in Scott County, Minnesota;

• Princeton Tie-Over Loop Extension (Princeton Extension)—2.5 miles of 8-inch-diameter pipeline loop extension in Sherburne County, Minnesota;

• Paynesville 2nd Branch Line Loop (Paynesville Loop)—2.0 miles of 4-inch-diameter pipeline loop in Stearns County, Minnesota; and

• Tomah Branch Line Loop Extension (Tomah Extension)—0.3 mile of 8-inch-diameter pipeline extension in Monroe County, Wisconsin.

• The aboveground facilities proposed for this Project would include one new pig ³ launcher, four new valve settings, replacement of valves and piping inside four facilities, and installation of two rupture-mitigation valves (RMV), associated piping, and buildings.

³ A “pig” is a tool that the pipeline company inserts into and pushes through the pipeline for cleaning the pipeline, conducting internal inspections, or other purposes.

• Abandonment and removal of two valve settings and associated piping.

The Commission mailed a copy of the Notice of Availability of the draft EIS to federal, state, and local government representatives and agencies; elected officials; environmental and public interest groups; Native American tribes; potentially affected landowners and other interested individuals and groups; and newspapers and libraries in the project area. The draft EIS is only available in electronic format. It may be viewed and downloaded from the FERC's website (www.ferc.gov), on the natural gas environmental documents page (https://www.ferc.gov/industries-data/natural-gas/environment/environmental-documents). In addition, the draft EIS may be accessed by using the eLibrary link on the FERC's website. Click on the eLibrary link (https://elibrary.ferc.gov/eLibrary/search) select “General Search” and enter the docket number in the “Docket Number” field, excluding the last three digits (i.e., CP22-138). Be sure you have selected an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Any person wishing to comment on the draft EIS may do so. Your comments should focus on draft EIS's disclosure and discussion of potential environmental effects, measures to avoid or lessen environmental impacts, and the completeness of the submitted alternatives, information and analyses. To ensure consideration of your comments on the proposal in the final EIS, it is important that the Commission receive your comments on or before 5:00 p.m. Eastern Time on December 5, 2022.

For your convenience, there are three methods you can use to submit your comments to the Commission. The Commission will provide equal consideration to all comments received, whether filed in written form or provided verbally. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; or

(3) You can file a paper copy of your comments by mailing them to the Commission. Be sure to reference the project docket number (CP22-138-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Any person seeking to become a party to the proceeding must file a motion to intervene pursuant to Rule 214 of the Commission's Rules of Practice and Procedures (18 CFR part 385.214). Motions to intervene are more fully described at https://www.ferc.gov/ferc-online/ferc-online/how-guides. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: October 14, 2022.
Kimberly D. Bose,
Secretary.

[FR Doc. 2022-22776 Filed 10-19-22; 8:45 am]

BILLING CODE 6717-01-P